Proclamation 7412 of March 2, 2001

National Poison Prevention Week, 2001

By the President of the United States of America

A Proclamation

National Poison Prevention Week alerts Americans to the dangers of accidental childhood poisonings and to the measures that help prevent poisonings. During the 40 years since the Congress authorized the annual proclamation of National Poison Prevention Week, our Nation has seen a dramatic decrease in deaths from childhood poisoning. In 1962, nearly 450 children died from poisoning after they accidentally swallowed medicines or household chemicals. From 1993 through 1997, an average of 36 children died each year from poisoning. This dramatic reduction in poisoning fatalities is a significant public health success.

However, the death of even one child from poisoning should be prevented. According to the American Association of Poison Control Centers, more than 1 million children each year are exposed to potentially poisonous medicines and household chemicals. The first line of defense is child-resistant packaging required by the Consumer Product Safety Commission for many medicines and household chemicals. But this special packaging is “child-resistant,” not “child-proof.” Therefore, potential poisons must be locked up away from children. And if a poisoning occurs, local poison control centers should be called immediately.

The Poison Prevention Week Council brings together 35 national organizations to distribute poison prevention information to pharmacies, public health departments, and safety organizations nationwide. National Poison Prevention Week has been very effective, but there is more to do. We all should use and properly re-close child-resistant packaging, keep poisonous substances locked up away from children, and keep available poison control center phone numbers next to the telephone. These measures can help prevent tragedies.

To encourage the American people to learn more about the dangers of accidental poisonings and to take more preventive measures, the Congress, by joint resolution approved September 26, 1961 (75 Stat. 681), has authorized and requested the President to issue a proclamation designating the third week of March each year as “National Poison Prevention Week.”

NOW, THEREFORE, I, GEORGE W. BUSH, President of the United States of America, do hereby proclaim the week beginning March 18, 2001, as National Poison Prevention Week. I call upon all Americans to observe this week by participating in appropriate ceremonies and activities and by learning how to prevent accidental poisonings among children.

IN WITNESS WHEREOF, I have hereunto set my hand this first day of March, in the year of our Lord two thousand one, and of the Independence of the United States of America the two hundred and twenty-fifth.

B

[FR Doc. 01-5671

Filed 3-5-01; 11:47 am]

Billing code 3195-01-P